DEPARTMENT OF THE INTERIOR

National Park Service

[NPS-WASO-IMR-YELL-NPS0028091; PPIMYELL60 PPMVSCS1Z.Y00000 (200); OMB Control Number 1024-0266]

Agency Information Collection Activities; Reporting and Recordkeeping for Snowcoaches and Snowmobiles, Yellowstone National Park

AGENCY: National Park Service, Interior.

ACTION: Notice of information collection; request for comment.

SUMMARY: In accordance with the Paperwork Reduction Act of 1995, we, the National Park Service (NPS, we) are proposing to renew an information collection.

DATES: Interested persons are invited to submit comments on or before January 13, 2020.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-0266 in the subject line of your comments.

FOR FURTHER INFORMATION CONTACT: To request additional information about this ICR, contact Willie Burkhardt, Concessions Management Specialist, P.O. Box 168, Mammoth Hot Springs Yellowstone National Park, WY 82190-0168; or by email at willie_burkhardt@nps.gov. Please reference OMB Control Number 1024-0266 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On June 5, 2019, we published a Federal Register notice soliciting comments on this collection of information for 60 days, ending on August 5, 2019 (84 FR 26153). We did not receive public comments on this notice.

We are again soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Park Service (NPS) is authorized by regulations codified in 36 CFR 7.13(l), Special Regulations; Areas of the National Park System; Yellowstone National Park; Winter Use, to establish a management framework that allows the public to experience the unique winter resources and values at Yellowstone National Park (YELL). Access to most of the park in the winter, is limited by distance and the harsh winter environment, which presents challenges to safety and park operations. In response, the NPS provides opportunities for park visitors to experience Yellowstone in the winter via over-snow vehicles (snowmobiles and snowcoaches, collectively OSVs). The final rule includes provisions that allow greater flexibility for commercial tour operators, provide mechanisms to make the park cleaner and quieter during the winter seasons, reward over-snow vehicle innovations and technologies, and allow increases in visitation. All over-snow vehicles (OSV) operating in the park are required to meet air and sound emission standards and be accompanied by a guide. As directed by the regulation, commercial OSV operators must complete the OSV Monthly Use Report (Form 10-650) and maintain certain records regarding:

Emission and Sound Standards (§ 7.13(l)(4)(vii) and (5)). Only OSVs that meet NPS emission and sound standards may operate in the park. Before the start of each winter season:

(a) Snowcoach manufacturers or commercial tour operators must demonstrate, by means acceptable to the Superintendent, that their snowcoaches meet the standards.

(b) Snowmobile manufacturers must demonstrate, by means acceptable to the Superintendent, that their snowmobiles meet the standards.

Transportation Events (§ 7.13(l)(11)(i)-(iii)). To monitor compliance with the required average and maximum size of transportation events, as of December 15, 2014, each commercial tour operator must:

(a) Maintain accurate and complete records on the number of snowmobiles and snowcoaches he or she brings into the park on a daily basis. These records must be made available for inspection by the park upon request.

(b) Provide a monthly use report on their activities. Form 10-650, “Concessioner Monthly Use Report”, available on the park website, is used to collect information for transportation events.

Enhanced Emission Standards (§ 7.13(l)(11)(iv)). To qualify for the increased average size of snowmobile transportation events or increased maximum size of snowcoach transportation events, each commercial tour operator must:

(a) Before the start of each winter season, demonstrate, by means acceptable to the Superintendent, that his or her snowmobiles or snowcoaches meet the enhanced emission standards; and

(b) Maintain separate records for snowmobiles and snowcoaches that meet enhanced emission standards and those that do not.

We will use the information collected to: (1) Ensure that OSVs meet NPS emission standards to operate in the park; (2) evaluate commercial tour operators' compliance with allocated transportation events and daily and seasonal OSV group size limits; (3) ensure that established daily transportation event limits for the park are not exceeded, (4) confirm that commercial tour operators do not run out of authorizations before the end of the season and create a gap when prospective visitors cannot be accommodated, and (5) guarantee compliance with applicable laws and regulations.

Title of Collection: Reporting and Recordkeeping for Snowcoaches and Snowmobiles, Yellowstone National Park.

OMB Control Number: 1024-0266.

Form Number: NPS Form 10-650.

Type of Review: Extension of a currently approved collection.

Description of Respondents: Businesses desiring to operate snowcoaches and snowmobiles in Yellowstone National Park.

Total Estimated Number of Annual Respondents: 17.

Total Estimated Number of Annual Responses: 64.

Estimated Completion Time per Response: On average.

• Transportation Events (reporting 1.5 hours; recordkeeping. 30 minutes)

• Emission/Sound Standards (reporting 30 minutes)

• Enhanced Emission Standards (reporting 30 minutes; recordkeeping 30 minutes)

Total Estimated Number of Annual Burden Hours: 100.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2019-26900 Filed 12-12-19; 8:45 am]

BILLING CODE 4312-52-P